DEPARTMENT OF AGRICULTURE

Forest Service

New Fee Proposed for Blacksburg Shooting Range; Federal Lands Recreation Enhancement Act

AGENCY: Forest Service.

ACTION: New fee proposed for Blacksburg Shooting Range.

SUMMARY: The USDA Forest Service invites the public to share their input on a proposed fee to access the Blacksburg Shooting Range on the Eastern Divide Ranger District. The George Washington and Jefferson National Forest is proposing a $10 daily fee or $75 annual fee for access to this public shooting range. A special recreation permit fee for the Blacksburg Shooting Range would be an investment in its future, providing a sustainable source of revenue to help ensure its availability to the American public. The public is invited to comment on this proposal. Comments received on these proposals, including names and addresses of those who comment, will be considered part of the public record and available for public inspection.

DATES: Send any comments about these fee proposals by August 6, 2018 so comments can be compiled, analyzed and shared with a Recreation Resource Advisory Committee. New fees would begin as early as spring 2018.

ADDRESSES: George Washington & Jefferson National Forests, Attn: Recreation Fee Program, 5162 Valleypointe Parkway, Roanoke, VA 24019-3050.

FOR FURTHER INFORMATION CONTACT: Ginny Williams, Developed Recreation Program Manager, gwilliams03@fs.fed.us, 540-265-5100.

Or visit our website: https://www.fs.usda.gov/gwj/.

SUPPLEMENTARY INFORMATION: The Federal Recreation Lands Enhancement Act (Title VII, Pub. L. 108-447) directed the Secretary of Agriculture to publish a six month advance notice in the Federal Register whenever new recreation fee areas are established. The George Washington & Jefferson National Forest does not currently charge a fee for access to public shooting ranges. Fees collected would support on-site staffing to provide a safe and positive experience for those who are sighting in their hunting guns; target practicing; learning to shoot or honing their skills for professional interest. Fees would also support necessary environmental monitoring and cyclic lead mitigation.

Once public involvement is complete, these new fees will be reviewed by the Southern Region Recreation Resource Advisory Committee prior to a final decision and implementation.

Dated: May 17, 2018.
Glenn Casamassa,
Associate Deputy Chief, National Forest System.

[FR Doc. 2018-14402 Filed 7-3-18; 8:45 am]

BILLING CODE 3411-15-P